DEPARTMENT OF HOMELAND SECURITY

Coast Guard

33 CFR Parts 166 and 167

[Docket No. USCG-2021-0345]

Port Access Route Study: The Pacific Coast From Washington to California

AGENCY: Coast Guard, DHS.

ACTION: Notification of study; request for comments.

SUMMARY: The Coast Guard is conducting a Port Access Route Study (PARS) to evaluate safe access routes for the movement of vessel traffic proceeding to or from ports or places along the western seaboard of the United States and to determine whether a Shipping Safety Fairway (“Fairway”) and/or routing measures should be established, adjusted or modified. The PARS will evaluate the continued applicability of, and the need for modifications to, current vessel routing measures. The data gathered during this Pacific Coast PARS (PACPARS) may result in the establishment of one or more new vessel routing measures, modification of existing routing measures, or disestablishment of existing routing measures off the Pacific Coast between Washington and California. To assist us in conducting the PACPARS, we invite your responses to questions in the SUPPLEMENTARY INFORMATION section. The recommendations of the study may consider future rulemaking action or potential international agreements.

DATES: Comments and related material must be received on or before January 25, 2022.

ADDRESSES: You may submit comments identified by docket number USCG-2021-0345 using the Federal eRulemaking Portal https://www.regulations.gov. See the “Public Participation and Request for Comments” portion of the SUPPLEMENTAL INFORMATION section for further instructions on submitting comments.

FOR FURTHER INFORMATION CONTACT: If you have questions about this notification of study, call or email LCDR Sara Conrad, Coast Guard Pacific Area (PAC-54), U.S. Coast Guard; telephone (510) 437-3813, email Sara.E.Conrad@uscg.mil or Mr. Tyrone Conner, Eleventh Coast Guard District (dpw), U.S. Coast Guard; telephone (510) 437-2968, email Tyrone.L.Conner@uscg.mil or Mr. John Moriarty, Thirteenth Coast Guard District (dpw), U.S. Coast Guard; telephone (206) 220-7274, email John.F.Moriarty@uscg.mil.

SUPPLEMENTARY INFORMATION:

I. Table of Abbreviations

CFR Code of Federal Regulations

DHS Department of Homeland Security

U.S.C. United States Code

PAC Pacific Area Command

PARS Port Access Route Study

PACPARS Pacific Coast Port Access Route Study

EEZ Exclusive Economic Zone

RNA Regulated Navigation Areas

TSS Traffic Separation Scheme

II. Background, Purpose, and Legal Basis

A. Requirement for PARS: Under the Ports and Waterways Safety Act, (PWSA) (46 U.S.C. 70003(c)(1)), the Commandant of the Coast Guard shall designate necessary fairways ¹ and traffic separations schemes (TSSs) to provide safe access routes for vessels proceeding to and from United States ports. The designation of fairways and TSSs recognizes the paramount right of navigation over all other uses in the designated areas.

¹ Fairway or shipping safety fairway is a lane or corridor in which no artificial island or fixed structure, whether temporary or permanent, will be permitted. Temporary underwater obstacles may be permitted under certain conditions described for specific areas. Aids to navigation approved by the Coast Guard may be established in a fairway. See 33 CFR 166.105(a).

The PWSA requires the Coast Guard to conduct a PARS, i.e. a study of potential traffic density and the need for safe access routes for vessels, before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses such as construction and operation of renewable energy facilities and other uses of the Pacific Ocean in the study area.

B. Previous Port Access Route Studies: The approaches to San Francisco, CA, were last studied in 2009, and the final results were published in the Federal Register on June 20, 2011 (76 FR 35805). The study was conducted to evaluate the continued applicability of and the potential need for modifications to the vessel routing to help reduce the risk of marine casualties and increase the efficiency of vessel traffic in the study area. The PARS for the Strait of Juan de Fuca, Haro Strait, Boundary Pass, Rosario Strait, the Strait of Georgia, and adjacent waters was completed in November 2000, published in the Federal Register on January 22, 2001 (66 FR 6514). The study was conducted to evaluate the need for modifications to current vessel routing and traffic management measures due to increase in maritime activities. The PARS for the approaches to Los Angeles-Long Beach and in the Santa Barbara Channel was last completed in June 2011, and the final results were published in the Federal Register in November 2011 (76 FR 67395). The study was conducted to evaluate the continued applicability of and the potential need for modifications to the traffic separation schemes. However, there has never been a PARS conducted for the entire pacific coast of the United States designed to analyze all vessel traffic proceeding to and from all the ports and transiting through the United States EEZ.

C. Need for a New Port Access Route Study: Given the current forecasted development of aquaculture farms, offshore renewable energy, commercial space ports/re-entry sites, expansion of marine sanctuaries, development of ports supporting Panamax vessels, potential LNG ports and additional increasing commercial traffic, the Coast Guard has determined that a PACPARS needs to be conducted. This PARS will focus on the coastwise shipping routes and near coastal users of the Pacific Ocean between the coastal ports, and the approaches to coastal ports within the EEZ. This PACPARS will help the Coast Guard determine what impact, if any, the siting, construction and operation of new developments may have on existing near coastal users of the Pacific Ocean, and the potential impact of shipping to other maritime users. To ensure safety of navigation, the Coast Guard will determine the impacts of rerouting traffic, funneling traffic, and placement of structures that may obstruct navigation. Some of the impacts may include increased vessel traffic density, more restricted offshore vessel routing, fixed navigation obstructions, underwater cable hazards, and economic impacts. Analyzing the various impacts will require a thorough understanding of the interrelationships of shipping, other commercial and recreational uses, and port operations.

The goal of the PACPARS is to enhance navigational safety by examining existing shipping routes and waterway uses, and, to the extent practicable, reconciling the paramount right of navigation within designated port access routes with other waterway uses such as the development of aquaculture farms, offshore renewable energy, commercial space ports/re-entry sites, marine sanctuaries, ports supporting Panamax vessels, potential LNG ports and additional commercial vessel traffic.

III. Information Requested

Timelines, Study Area, Focus, and Process: Coast Guard Pacific Area Command will conduct a PACPARS and should take several years to complete. The study area will encompass all vessel traffic patterns approaching and departing major ports along the west coast to include all current Traffic Separation Schemes and vessel maneuvering along the Pacific Coast from Washington to California and all federal navigable waters out to the EEZ. The PACPARS will focus on vessel traffic and navigation mitigation techniques to improve and support safe navigation transits within the major Pacific Coast Ports and the United States EEZ.

As part of this study, we will analyze current and historical vessel traffic, fishing vessel information, agency and stakeholder experience in vessel traffic management, navigation, ship handling, and effects of weather. We encourage you to participate in the study process by submitting comments in response to this document.

We will publish the results of the PARS in the Federal Register. It is possible that the study may validate existing vessel routing measures and conclude that no changes are necessary. It is also possible that the study may recommend one or more changes to enhance navigational safety and the efficiency of vessel traffic. The recommendations may lead to future rulemakings or appropriate international agreements.

Possible Scope of the Recommendations: We are attempting to determine the scope of any safety concerns associated with vessel transits in the study area. The information gathered during the study should help us identify concerns and mitigating solutions. Considerations might include: (1) Maintain the current vessel routing measures; (2) modify the existing traffic separation schemes; (3) create one or more precautionary areas; (4) create one or more inshore traffic zones; (5) establish area(s) to be avoided; (6) create deep-draft routes; (7) establish Regulated Navigation Areas (RNA) with specific vessel operating requirements to ensure safe navigation near shallow water; (8) identify any other appropriate ships' routing measures; (9) use this study for future decisions on routing measures or other maritime traffic considerations and; (10) use this study to inform other agencies concerning the impacts of their future endeavors.

Questions: To help us conduct the PARS, we request information that will help answer the following questions, although comments on other issues addressed in this document are also welcome. In responding to a question, please explain your reasons for each answer and follow the instructions under “Public Participation and Request for Comments” above.

(1) What navigational hazards do vessels operating in the study area face? Please describe.

(2) Are there strains on the current vessel routing systems, such as increasing traffic density associated with future growth? Please describe.

(3) Are modifications to existing vessel routing measures needed to address hazards and improve traffic efficiency in the study area? If so, please describe.

(4) What costs and benefits are associated with the measures listed as potential study considerations? What measures do you think are most cost-effective?

(5) What impacts, both positive and negative, would changes to existing routing measures or new routing measures have on the study area?

(6) Where do you transit? Where are your transit routes? What criteria are used in determining your transit routes?

(7) Do you currently experience competing uses for the same waterway areas or transit routes? If so, please describe.

(8) Do you anticipate, or are you aware of, future competing uses for the same waterway areas or transit routes? These could include potential offshore energy projects, potential offshore aquaculture projects, or otherwise.

(9) Are there other environmental, cultural, tribal, marine mammal or other impacts which should be considered during this Port Access Route Study?

IV. Public Participation and Request for Comments

We encourage you to submit comments through the Federal eRulemaking Portal at https://www.regulations.gov. If your material cannot be submitted using https://www.regulations.gov, contact the person in the FOR FURTHER INFORMATION CONTACT section of this document for alternate instructions. If you submit comments, please include the docket number for this notification of study and provide a reason for each suggestion or recommendation.

We accept anonymous comments. All comments received will be posted without change to https://www.regulations.gov and will include any personal information you have provided. For more about privacy and submissions in response to this document, see DHS's eRulemaking System of Records (85 FR 14226, March 11, 2020).

Documents mentioned in this notification of study as being available in the docket, and all public comments, will be in our online docket at https://www.regulations.gov and can be viewed by following that website's instructions.

Additionally, if you go to the online docket and sign up for email alerts, you will be notified when comments are posted.

This document is published under the authority of 46 U.S.C. 70003(c)(1).

Dated: July 21, 2021.
Michael F. McAllister,
Vice Admiral, U.S. Coast Guard, Commander, Pacific Area.

[FR Doc. 2021-15923 Filed 7-28-21; 8:45 am]

BILLING CODE 9110-04-P